FEDERAL COMMUNICATIONS COMMISSION

47 CFR Part 76

[MM Docket No. 92-266, FCC 95-397]

Cable Television Act of 1992

AGENCY: Federal Communications Commission.

ACTION: Final rule; announcement of effective date.

SUMMARY: This document announces the effective date of rules published in the Federal Register on October 5, 1995. The Commission simplified rules affecting cable operators' rates and provided cable operators with an additional option for adjusting their rates.

DATES: The amendments to 47 CFR 76.922(c), (d), (g) through (m) and additions of 47 CFR 76.922(e) and (f) and 76.933(h) published in the Federal Register at 60 FR 52106, October 5, 1995, are effective February 21, 2013.

FOR FURTHER INFORMATION CONTACT: For additional information contact John Norton, John.Norton@fcc.gov, 202-418-2120, Media Bureau, Policy Division.

SUPPLEMENTARY INFORMATION: In a Thirteenth Order on Reconsideration released on September 22, 1995, FCC 95-397, and published in the Federal Register on October 5, 1995, 60 FR 52106, the Commission adopted rules which contained information collection requirements subject to the Paperwork Reduction Act. The document stated that the rule changes requiring OMB approval would become effective upon announcement in the Federal Register of OMB approval. On December 15, 1995, the Office of Management and Budget (OMB) approved the information collection requirements contained in 47 CFR 76.922 and 76.933. This information collection is assigned to OMB Control No. 3060-0685.

Federal Communications Commission.
Marlene H. Dortch,
Secretary.

[FR Doc. 2013-03933 Filed 2-20-13; 8:45 am]

BILLING CODE 6712-01-P